DEPARTMENT OF HEALTH AND HUMAN SERVICES

Centers for Disease Control and Prevention

Notice of Award of a Single-Source Cooperative Agreement To Fund the All-India Institute for Medical Sciences, New Delhi (AIIMS, New Delhi)

AGENCY: Centers for Disease Control and Prevention (CDC), Department of Health and Human Services (HHS).

ACTION: Notice.

SUMMARY: The Centers for Disease Control and Prevention (CDC), located within the Department of Health and Human Services (HHS), announces the award of approximately $2,000,000, with an expected total funding of approximately $10,000,000 over a five-year period, to AIIMS, New Delhi. The award will support research to estimate the incidence of influenza and other respiratory viruses (such as SARS-CoV-2) among working-age adults and other priority populations in India to strengthen the evidence base and inform influenza vaccine policy in India.

DATES: The period for this award will be September 30, 2022, through September 29, 2027.

FOR FURTHER INFORMATION CONTACT: Amy Yang, Ph.D., National Center for HIV, Viral Hepatitis, STD and TB Prevention, Centers for Disease Control and Prevention, 1600 Clifton Road NE, MS US8-1, Atlanta, GA 30329, Telephone: 404-718-8835, email: corp_erpo_8835@cdc.gov.

SUPPLEMENTARY INFORMATION: This single-source award will allow the recipient to conduct research to estimate the incidence of influenza and other respiratory viruses (such as SARS-CoV-2) among working-age adults and other priority populations in India to strengthen the evidence base and inform influenza vaccine policy in India.

AIIMS, New Delhi, is in a unique position to conduct this work, as it is the only institution in India with the required scientific and technical expertise to conduct multi-site cohort studies on influenza and other respiratory viruses like SARS-CoV-2 which require robust epidemiological and laboratory capacity and maintains the high research standards required by CDC. AIIMS, New Delhi, is governmentally mandated by the AIIMS Act of 1956 and operates autonomously as an institution of national importance under the Ministry of Health and Family Welfare. AIIMS, New Delhi, is the leader of basic, clinical, and translational medical research in India.

Summary of the Award

Recipient: The All-India Institute for Medical Sciences, New Delhi (AIIMS, New Delhi).

Purpose of the Award: The purpose of this award is to support research to estimate the incidence of influenza and other respiratory viruses, such as severe acute respiratory syndrome coronavirus 2 (SARS-CoV-2), among working-aged adults and other priority populations in India to strengthen the evidence base to help inform influenza vaccine policy in India. The recipient will set up a multi-center hospital-based platform in India to estimate the disease and economic burden of influenza- and COVID-19-associated hospitalization of working age adults (18-60 years) in India. An additional goal is to increase awareness about influenza burden and prevention methods among clinicians and public health practitioners. This project aligns with activities conducted under the CDC Influenza Division's International Program to build the evidence base for better understanding the disease and economic burden of influenza and to identify strategies for influenza prevention, including vaccination in low- and middle-income settings.

Amount of Award: $2,000,000 in Federal Fiscal Year (FYY) 2022 funds, and an estimated $2,000,000 for each subsequent 12-month budget period over five years, subject to availability of funds.

Authority: This program is authorized under Public Health Service Act, Section 307 (42 U.S.C. 242l).

Period of Performance: September 30, 2022 through September 29, 2027.

Dated: January 11, 2022.
Terrance Perry,
Chief Grants Management Officer, Centers for Disease Control and Prevention.

[FR Doc. 2022-00704 Filed 1-13-22; 8:45 am]

BILLING CODE 4163-18-P